FEDERAL TRADE COMMISSION

16 CFR Part 437

Business Opportunity Rule

AGENCY: Federal Trade Commission.

ACTION: Extension of period to submit comments in response to the Notice of Proposed Rulemaking.

SUMMARY: In a Federal Register notice published on April 12, 2006, 71 FR 19054, the FTC requested comment on its Notice of Proposed Rulemaking in connection with the Business Opportunity Rule. The Notice stated that comments must be submitted on or before June 16, 2006, and that rebuttal comments must be submitted on or before July 7, 2006. In response to a request for an extension of the comment period received on May 5, 2006, the Commission has extended the comment period for one additional month.

DATES: Comments addressing the Business Opportunity Rule Notice of Proposed Rulemaking must be submitted on or before July 17, 2006. Rebuttal comments must be submitted on or before August 7, 2006.

ADDRESSES: Interested parties are invited to submit written comments. Comments should refer to “Business Opportunity Rule, R511993” to facilitate the organization of comments. A comment filed in paper form should include this reference both in the text and on the envelope, and should be mailed or delivered, with two complete copies, to the following address: Federal Trade Commission/Office of the Secretary, Room H-135 (Annex W), 600 Pennsylvania Avenue, NW., Washington, DC 20580. The FTC is requesting that any comment filed in paper form be sent by courier or overnight service, if possible, because U.S. postal mail in the Washington area and at the Commission is subject to delay due to heightened security precautions. Moreover, because paper mail in the Washington area and at the Agency is subject to delay, please consider submitting your comments in electronic form, as prescribed below. Comments containing confidential material, however, must be filed in paper form, must be clearly labeled “Confidential,” and must comply with Commission Rule 4.9(c).¹

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following Web link: https://secure.commentworks.com/ftc-bizopNPR/ and following the instructions on the web-based form. To ensure that the Commission considers an electronic comment, you must file it on the web-based form at the https://secure.commentworks.com/ftc-bizopNPR/ Web link. If this notice appears at http://www.regulations.gov, you may also file an electronic comment through that Web site. The Commission will consider all comments that regulations.gov forwards to it. You may also visit the FTC Web site at http://www.ftc.gov/opa/2006/04/newbizopprule.htm to read the Notice of Proposed Rulemaking and the news release describing this proposed Rule.

FOR FURTHER INFORMATION CONTACT: Steven Toporoff, (202) 326-3135, Division of Marketing Practices, Room 288, Bureau of Consumer Protection, Federal Trade Commission, 600 Pennsylvania Avenue, NW., Washington, DC 20580.

SUPPLEMENTARY INFORMATION: On April 12, 2006, the Commission published a Notice of Proposed Rulemaking in connection with a Business Opportunity Rule. In that Notice, the Commission solicited comment on a variety of topics including the proposed definitions, the scope of the proposed Rule, and the proposed disclosures and prohibitions. The Notice stated that the period for submitting initial comments would close on June 16, 2006, and that the period for submitting rebuttal comments would close on July 7, 2006.

On May 5, 2006, the Commission received a letter from the Direct Selling Association (“DSA”) requesting that the Commission extend the comment period for 90 days. DSA asserts that the proposed Rule “could have a dramatic negative impact on the direct selling community.” DSA, however, does not identify any specific provision of the proposed Rule that might have such an effect, nor does it advance any other facts from which the Commission can assess DSA's claim that, in effect, it would need a total of five months to formulate its comment. Without a more detailed and persuasive explanation as to why the petitioner needs so much more time, the Commission is not persuaded that such an extension is justified in view of the need to avoid unnecessary delay in this proceeding.

The Commission believes that a 30-day extension should be sufficient to enable DSA and all other commenters to prepare and submit comments in response to the proposed Rule. Accordingly, the Commission has determined to extend the comment period set forth in the Notice until July 17, 2006, for initial comments and until August 7, 2006, for rebuttal comments.

By direction of the Commission.
Donald S. Clark,
Secretary.

[FR Doc. E6-8546 Filed 5-31-06; 8:45 am]

BILLING CODE 6750-01-P